FEDERAL RETIREMENT THRIFT INVESTMENT BOARD

Sunshine Act; Notice of Meeting

Time and Date: 9 a.m. (Eastern Time) April 20, 2009.

Place: 4th Floor Conference Room, 1250 H Street, NW., Washington, DC 20005.

Status: Parts will be open to the public and parts closed to the public.

Matters to be Considered:

Parts Open to the Public

1. Approval of the minutes of the March 16, 2009 Board member meeting.

2. Thrift Savings Plan activity report by the Executive Director.

a. Participant Activity Report.

b. Systems Modernization.

c. Quarterly Investment Performance Report.

d. Legislative Report.

3. Recommendations on Potential Legislative Initiatives.

4. Quarterly Vendor Financial Report.

5. Annual Financial Audit Report.

Parts Closed to the Public

6. Proprietary information.

7. Personnel.

Contact Person For More Information: Thomas J. Trabucco, Director, Office of External Affairs, (202) 942-1640.

Dated: April 3, 2009.
Thomas K. Emswiler,
Secretary, Federal Retirement Thrift Investment Board.

[FR Doc. E9-7969 Filed 4-3-09; 4:15 pm]

BILLING CODE 6760-01-P